ENVIRONMENTAL PROTECTION AGENCY

[ER-FRL-6628-4]

Environmental Impact Statements; Notice of Availability

Responsible Agency: Office of Federal Activities, General Information (202) 564-7167 or www.epa.gov/oeca/ofa

Weekly receipt of Environmental Impact Statements

Filed April 08, 2002 Through April 12, 2002

Pursuant to 40 CFR 1506.9.

EIS No. 020143, Final EIS, FHW, MI, M-24 Reconstruction Project, From One Mile North of the Oakland County Line to I-69, Funding, Lapeer County, MI, Wait Period Ends: May 20, 2002, Contact: James A. Kirshensteiner (517) 702-1835.

EIS No. 020144, Draft EIS, FHW, MN, Trunk Highway (TH) 53 Project, Transportation Improvements, from 1.2 km (¾ mile) South of St. Louis County Road 307 to the South City Limits of Cook, NPDES Permit, COE Section 10 and 404 Permits, St. Louis County, MN, Comment Period Ends: June 03, 2002, Contact: Cheryl Martin (651) 291-6120.

EIS No. 020145, Final EIS, USA, CO, Pueblo Chemical Depot, Destruction of Chemical Munitions, Design, Construction, Operation and Closure of a Facility, Pueblo County, CO, Wait Period Ends: May 20, 2002, Contact: Penny Robitaille (410) 436-4178.

Amended Notices

EIS No. 020124, Draft EIS, FRC, CT, NY, Islander East Pipeline Project, Interstate Natural Gas Pipeline Facilities Construction and Operation to provide 285,000 dekatherms per day (Dth/d) of Natural Gas to Energy Markets in Connecticut, Long Island and New York, New Haven, CT and Suffolk County, NY, Comment Period Ends: May 20, 2002, Contact: Margalie R. Salas (202) 208-2156. Revision of FR notice published on 04/05/2002: Title Correction. 285,009 dekatherms per day (Dth/d) Changed to 285,000 dekatherms per day (Dth/d).

EIS No. 020125, Final EIS, FTA, MN, Northstar Transportation Corridor Improvement Project, Downtown Minneapolis to the St. Cloud Area along Trunk Highway 10/47 and the Burlington Northern Santa Fe Railroad Transcontinental Route connecting Hiawatha Light Rail Transit Line at a Multi-Modal Station, Minneapolis/St Paul International Airport and Mall of America, Bloomington, MN, Wait Period Ends: May 06, 2002, Contact: Joel Ettinger (312) 353-2865. Revision of FR Notice Published on 04/12/2002: Correction to County from Joseph to Josephine County Report on 04/12/2002.

EIS No. 020129, Draft EIS, BLM, OR, Kelsey Whisky Landscape Management Planning Area, Implementation, Associated Medford District Resource Management Plan Amendments, Josephine and Jackson Counties, OR, Comment Period Ends: July 12, 2002, Contact: Sherwood Tubman (541) 618-2399. Revision of FR Notice Published on 03/29/2002: CEQ Comment Period Ending 04/29/2002 has been Corrected to 05/13/2002.

Dated: April 16, 2002.
Joseph C. Montgomery,
Director, NEPA Compliance Division, Office of Federal Activities.

[FR Doc. 02-9656 Filed 4-18-02; 8:45 am]

BILLING CODE 6560-50-U